DEPARTMENT OF COMMERCE

International Trade Administration

Notice of Scope Rulings

AGENCY: Import Administration, International Trade Administration, Department of Commerce.

DATES: Effective Date: March 24, 2010.

SUMMARY: The Department of Commerce (“Department”) hereby publishes a list of scope rulings completed between July 1, 2009, and September 30, 2009. In conjunction with this list, the Department is also publishing a list of requests for scope rulings and anticircumvention determinations pending as of September 30, 2009. We intend to publish future lists after the close of the next calendar quarter.

FOR FURTHER INFORMATION CONTACT: Jennifer Moats or Julia Hancock, AD/CVD Operations, China/NME Group, Import Administration, International Trade Administration, U.S. Department of Commerce, 14th Street and Constitution Avenue, N.W., Washington, DC 20230; telephone: 202-482-5047 or 202-482-1394, respectively.

SUPPLEMENTARY INFORMATION:

Background

The Department's regulations provide that the Secretary will publish in the Federal Register a list of scope rulings on a quarterly basis. See 19 C.F.R. 351.225(o). Our most recent notification of scope rulings was published on September 29, 2009. See Notice of Scope Rulings, 74 FR 49859 (September 29, 2009). This current notice covers all scope rulings and anticircumvention determinations completed by Import Administration between July 1, 2009, and September 30, 2009, inclusive, and it also lists any scope or anticircumvention inquiries pending as of June 30, 2009. As described below, subsequent lists will follow after the close of each calendar quarter.

Scope Rulings Completed Between July 1, 2009, and September 30, 2009:

Multiple Countries

A-570-922 and C-570-923: Raw Flexible Magnets from the People's Republic of China; A-583-842: Raw Flexible Magnets from Taiwan

Requestor: Direct Innovations; certain decorative retail magnets are within the scope of the antidumping and countervailing duty orders; July 13, 2009.

Norway

A-403-801 and C-403-802: Fresh and Chilled Atlantic Salmon from Norway

Requestor: Changing Seas; its whole salmon steaks are within the scope of the antidumping and countervailing duty orders; August 5, 2009.

People's Republic of China

A-570-886: Polyethylene Retail Carrier Bags from the People's Republic of China

Requestor: Majestic International, LLC; 120 gift bags are outside the scope of the antidumping duty order; July 7, 2009.

A-570-886: Polyethylene Retail Carrier Bags from the People's Republic of China

Requestor: Care Line Industries, Inc.; certain bags designed for hospital use, which are not printed with store names or logos and packed in consumer packaging with printing indicating specific end-uses other than packaging or carrying merchandise from retail establishments, are outside the scope of the antidumping duty order; July 17, 2009.

A-570-891: Hand Trucks and Certain Parts Thereof from the People's Republic of China

Requestor: Simon, Evers & Co., GmbH; the Relius Fold-Away Truck, Relius Tray-Shelf Utility Cart, Economical Steel Cart, Solid Platform Dolly and Flush Platform Dolly are all outside the scope of the antidumping duty order; December 3, 2009.

A-570-899: Artist Canvas from the People's Republic of China

Requestor: Art Supplies Enterprises, Inc.; framed artist canvas woven and primed in the Socialist Republic of Vietnam and cut and framed in the People's Republic of China is outside the scope of the antidumping duty order; July 10, 2009.

A-570-899: Artist Canvas from the People's Republic of China

Requestor: Art Supplies Enterprises, Inc.; framed artist canvas woven and primed in India and cut and framed in the People's Republic of China is outside the scope of the antidumping duty order; August 5, 2009.

A-570-901: Lined Paper Products from the People's Republic of China

Requestor: Vera Bradley; its Clip Notes, which contain a standard sized clipboard measuring 10” x 14” with a hinged metal clip at the top and a single pad of lined paper measuring 8 ½” x 11,” where the clip board and the single pad of paper are decorated with Vera Bradley's pattern design, are outside the scope of the antidumping duty order because it is not a substantial part of the Clip Notes; July 29, 2009.

A-570-901: Lined Paper Products from the People's Republic of China

Requestor: Wal-Mart Stores, Inc.; its notebook component, when imported as part of the complete stationery set, is within the scope of the antidumping duty order; July 17, 2009.

A-570-910 and C-570-911: Certain Circular Welded Carbon Quality Steel Pipe from the People's Republic of China

Requestor: Constantine N. Polites and Company; unfinished scaffolding pipe is within the scope of the antidumping duty order; August 12, 2009.

A-570-910 and C-570-911: Certain Circular Welded Carbon Quality Steel Pipe from the People's Republic of China

Requestor: Tubos California; steel pipes used in water delivery systems, water and sewer purification systems and/or water filtration systems are within the scope of the antidumping duty order; July 21, 2009.

A-570-914: Light-Walled Rectangular Pipe and Tube from the People's Republic of China

Requestor: MMI Products, Inc.; whether MMI Products, Inc.'s fence posts are within the scope of the antidumping duty order; July 31, 2009.

A-570-916 and C-570-917: Laminated Woven Sacks from the People's Republic of China

Requestor: Shapiro Packaging; the Department has determined that Shapiro's three imported sacks are not merchandise covered by the scope of the Orders; July 29, 2009.

Anticircumvention Determinations Completed Between July 1, 2009, and September 30, 2009:

A-570-849: Cut-to-Length Carbon Steel Plate from the People's Republic of China

Requestor: Nucor Corporation, SSAB N.A.D., Evraz Claymont Steel, Evraz Oregon Steel Mills, and ArcelorMittal USA Inc.; imports of cut-to-length carbon steel plate with metallurgically and economically insignificant amounts of boron added, produced by Tianjin Iron and Steel Co., Ltd. or imported by Toyota Tsusho America, Inc. are circumventing the antidumping duty order; August 12, 2009.

A-570-894: Certain Tissue Paper Products from the People's Republic of China

Requestor: Seaman Paper Company of Massachusetts, Inc.; imports of certain tissue paper products from Thailand made out of jumbo rolls and sheets of tissue paper from the People's Republic of China are circumventing the antidumping duty order; June 19, 2009.

Scope Inquiries Terminated Between July 1, 2009, and September 30, 2009:

People's Republic of China

A-570-890: Wooden Bedroom Furniture from the People's Republic of China

Requestor: Target Corporation (“Target”); the Department terminated the scope inquiry filed on behalf of Target; July 6, 2009.

A-570-918: Steel Wire Garment Hangers from the People's Republic of China

Requestor: American Hanger; the Department terminated the scope inquiry filed on behalf of American Hanger; September 25, 2009.

A-570-918: Steel Wire Garment Hangers from the People's Republic of China

Requestor: Econoco Corporation; the Department terminated the scope inquiry filed on behalf of Econoco Corporation; September 25, 2009.

Anticircumvention Inquiries Terminated Between July 1, 2009, and September 30, 2009:

None.

Scope Inquiries Pending as of September 30, 2009:

Germany

A-428-801: Ball Bearings and Parts from Germany

Requestor: The Schaeffler Group; whether certain ball roller bearings are within the scope of the antidumping duty order; requested April 28, 2009; initiated June 12, 2009.

People's Republic of China

A-570-504: Petroleum Wax Candles from the People's Republic of China

Requestor: Trade Associates Group, Ltd.; whether its candles (multiple designs) are within the scope of the antidumping duty order; requested June 11, 2009.

A-570-504: Petroleum Wax Candles from the People's Republic of China

Requestor: Sourcing International, LLC; whether its flower candles are within scope of the antidumping duty order; requested June 24, 2009.

A-570-504: Petroleum Wax Candles from the People's Republic of China

Requestor: Sourcing International; whether its candles (multiple designs) are within scope of the antidumping duty order; requested July 28, 2009.

A-570-504: Petroleum Wax Candles from the People's Republic of China

Requestor: Sourcing International; whether its floral bouquet candles are within scope of the antidumping duty order; requested August 25, 2009.

A-570-804: Sparklers from the People's Republic of China:

Requestor: American Promotion Events, Inc.; whether its Sparkling Tree is within the scope of the antidumping duty order; requested September 2, 2009.

A-570-806: Silicon Metal from the People's Republic of China

Requestor: Globe Metallurgical Inc.; whether certain silicon metal exported by Ferro-Alliages et Mineraux to the United States from Canada is within the scope of the antidumping duty order; requested October 1, 2008.

A-570-814: Certain Carbon Steel Butt-Weld Pipe Fittings from the People's Republic of China

Requestor: King Architectural Metals (“King”); whether King's pipe fittings for structural use in handrails and fencing are within the scope of the antidumping duty order; requested April 17, 2009.

A-570-864: Pure Magnesium in Granular Form from the People's Republic of China

Requestor: ESM Group Inc.; whether atomized ingots are within the scope of the antidumping duty order; initiated April 18, 2007; preliminary ruling issued August 27, 2008.

A-570-868: Folding Metal Tables and Chairs from the People's Republic of China

Requestor: Lifetime Products, Inc. (“Lifetime”); whether Lifetime's fold-in-half adjustable height tables are outside the scope of the antidumping duty order; requested June 30, 2009.

A-570-891: Hand Trucks from the People's Republic of China

Requestor: Northern Tool & Equipment Co.; whether a high-axle torch cart (item #164771) is within the scope of the antidumping duty order; requested March 23, 2007.

A-570-901: Lined Paper Products from the People's Republic of China

Requestor: Livescribe Inc., whether the patented dot-patterned paper (trademarked “ANOTO”) is within the scope of the antidumping duty order; requested October 24, 2008; supplemented with additional information on July 14, 2009.

A-570-904: Certain Activated Carbon from the People's Republic of China

Requestor: Rolf C Hagen (USA) Corp; whether certain fish filter parts are within the scope of the antidumping duty order; requested November 14, 2008.

A-570-922: Raw Flexible Magnets from the People's Republic of China

Requestor: It's Academic, Inc.; whether four of its seven packages of locker magnets are within the scope of the antidumping duty order, requested June 4, 2009.

A-570-922 and C-570-923: Raw Flexible Magnets from the People's Republic of China

Requestor: It's Academic, Inc.; whether three of its seven printed flexible magnets are within the scope of the antidumping duty order, requested September 2, 2009.

A-570-924: Polyethylene Terephthalate (“PET”) Film from the People's Republic of China

Requestor: Coated Fabrics Company; whether Amorphous PET (“APET”), Glycol-modified PET (“PETG”), and coextruded APET and with PETG on its outer surfaces (“GAG Sheet”) are within the scope of the antidumping duty order; requested February 12, 2009.

A-570-932: Steel Threaded Rod from People's Republic of China

Requestor: Mid-State Bolt & Nut Co., Inc.; whether Concrete Wedge Anchors are within the scope of the antidumping duty order; requested July 15, 2009.

Anticircumvention Rulings Pending as of September 30, 2009:

None.

Interested parties are invited to comment on the completeness of this list of pending scope and anticircumvention inquiries. Any comments should be submitted to the Deputy Assistant Secretary for AD/CVD Operations, Import Administration, International Trade Administration, 14th Street and Constitution Avenue, N.W., APO/Dockets Unit, Room 1870, Washington, DC 20230.

This notice is published in accordance with 19 C.F.R. 351.225(o).

Dated: March 18, 2010.
John M. Andersen,
Acting Deputy Assistant Secretary for Antidumping and Countervailing Duty Operations.

[FR Doc. 2010-6525 Filed 3-23-10; 8:45 am]

BILLING CODE 3510-DS-S